DEPARTMENT OF STATE

[Public Notice: 6200]

30-Day Notice of Proposed Information Collection: U.S. Department of State Driver License and Tax Exemption Card Application; OMB Collection Number 1405-0105; Forms DS-1972, DS-1972D & DS-1972T

ACTION: Notice of request for public comment and submission to OMB of proposed collection of information.

SUMMARY: The Department of State has submitted the following information collection request to the Office of Management and Budget (OMB) for approval in accordance with the Paperwork Reduction Act of 1995.

• Title of Information Collection: U.S. Department of State Driver License and Tax Exemption Card Application.

• OMB Control Number: 1405-0105.

• Type of Request: Extension of a currently approved collection.

• Originating Office: Diplomatic Security/Office of Foreign Missions (DS/OFM).

• Form Number: DS-1972, DS-1972D, DS-1972T.

• Respondents: Foreign government representatives assigned to the United States.

• Estimated Number of Respondents: 350 foreign missions.

• Estimated Number of Responses: 21,284 responses (DS-1972: 6,385), (DS-1972T: 10,249), (DS-1972D: 4,470).

• Average Hours per Response: DS-1972—30 minutes, DS-1972D—20 minutes, DS-1972T—15 minutes.

• Total Estimated Burden: 7,275 hours.

• Frequency: On occasion.

• Obligation to Respond: Required to Obtain or Retain benefits.

DATES: Submit comments to the Office of Management and Budget (OMB) for up to 30 days from April 28, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from: Jacqueline Robinson, Diplomatic Security, Office of Foreign Missions, 2201 C Street, NW., Room 2238, Washington, DC 20520, who may be reached on (202) 647-3416 or OFMInfo@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The forms associated with OMB Collection Number 1405-0105 is the means by which foreign missions in the United States request the issuance of a driver license and/or a sales tax exemption card for foreign mission personnel and their dependents. The exemption from sales taxes and the operation of a motor vehicle in the United States by foreign mission personnel are benefits under the Foreign Missions Act, 22 U.S.C. 4301 et seq., which must be obtained by foreign missions through the U.S. Department of State, Office of Foreign Missions (DS/OFM). The DS-1972, DS-1972D, and DS-1972T applications provide OFM with the necessary information required to administer the two benefits effectively and efficiently. Sales tax exemption is enjoyed under the provisions of international law but is granted on the bases of reciprocity. The administration of driver licenses at the national level helps the Federal Government identify operators who repeatedly receive citations. This also helps the Federal Government determine the necessary course of action that may be required against an individual's driving privilege. Accordingly, the Federal Government is able to provide consistency to the diplomatic community on a national level through a uniform program. The respondents are foreign government representatives assigned to the United States.

Methodology

These applications/information collections are submitted by all foreign missions to the Office of Foreign Missions via the following methods: Electronically, mail, and/or personal delivery.

Dated: April 9, 2008.
Claude Nebel,
Deputy Assistant Secretary, Bureau of Diplomatic Security, Office of Foreign Missions, U.S. Department of State.

[FR Doc. E8-9239 Filed 4-25-08; 8:45 am]

BILLING CODE 4710-43-P